DEPARTMENT OF HOMELAND SECURITY

Federal Emergency Management Agency

[Docket ID FEMA-2013-0002]

Changes in Flood Hazard Determinations

AGENCY: Federal Emergency Management Agency, DHS.

ACTION: Final Notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Arkansas:
Benton (FEMA Docket No.: B-1262) | City of Bella Vista (11-06-4526P) | The Honorable Frank E. Anderson, Mayor, City of Bella Vista, P.O. Box 5655, Bella Vista, AR 72714 | 406 Town Center East, Bella Vista, AR 72714 | August 23, 2012 | 050511
Benton (FEMA Docket No.: B-1271) | City of Rogers (12-06-1612P) | The Honorable Greg Hines, Mayor, City of Rogers, 301 West Chestnut Street, Rogers, AR 72756 | City Hall, 301 West Chestnut Street, Rogers, AR 72756 | October 29, 2012 | 050013
Faulkner (FEMA Docket No.: B-1274) | City of Vilonia (12-06-1423P) | The Honorable James Firestone, Mayor, City of Vilonia, P.O. Box 188, Vilonia, AR 72173 | City Hall, 1113 Main Street, Vilonia, AR 72173 | December 6, 2012 | 050417
Pulaski (FEMA Docket No.: B-1268) | Unincorporated areas of Pulaski County (12-06-0415P) | The Honorable Floyd G. Villines, Pulaski County Judge, 201 South Broadway Street, Suite 400, Little Rock, AR 72201 | Pulaski County Road and Bridge Department, 3200 Brown Street, Little Rock, AR 72204 | October 11, 2012 | 050179
Maryland: Montgomery (FEMA Docket No.: B-1262) | Town of Poolesville (11-03-2517P) | The Honorable Paul E. Kuhlman, President, Town of Poolesville Commissioners, 19721 Beall Street, Poolesville, MD 20837 | Town Hall, 1910 Fisher Avenue, Suite C, Poolesville, MD 20837 | August 23, 2012 | 240118
New Mexico:
Bernalillo (FEMA Docket No.: B-1271) | City of Albuquerque (11-06-2877P) | The Honorable Richard J. Berry, Mayor, City of Albuquerque, P.O. Box 1293, Albuquerque, NM 87103 | 600 2nd Street Northwest, Suite 201, Albuquerque, NM 87102 | November 8, 2012 | 350002
Bernalillo (FEMA Docket No.: B-1262) | City of Albuquerque (12-06-0106P) | The Honorable Richard J. Berry, Mayor, City of Albuquerque, P.O. Box 1293, Albuquerque, NM 87103 | 600 2nd Street Northwest, Suite 201, Albuquerque, NM 87102 | August 23, 2012 | 350002
Bernalillo (FEMA Docket No.: B-1268) | Unincorporated areas of Bernalillo County (11-06-4300P) | The Honorable Art De La Cruz, Chairman, Bernalillo County Board of Commissioners, 1 Civic Plaza Northwest, Albuquerque, NM 87102 | Bernalillo County Public Works Division, 2400 Broadway Boulevard Southeast, Albuquerque, NM 87102 | September 5, 2012 | 350001
Doña Ana (FEMA Docket No.: B-1262) | City of Las Cruces (11-06-2357P) | The Honorable Ken Miyagishima, Mayor, City of Las Cruces, 700 North Main Street, Las Cruces, NM 88001 | 700 North Main Street, Las Cruces, NM 88001 | August 24, 2012 | 355332
Sandoval (FEMA Docket No.: B-1262) | City of Rio Rancho (12-06-0106P) | The Honorable Thomas E. Swisstack, Mayor, City of Rio Rancho, 3200 Civic Center Circle Northeast, Rio Rancho, NM 87144 | 3200 Civic Center Circle Northeast, Rio Rancho, NM 87144 | August 23, 2012 | 350146
Pennsylvania:
Blair (FEMA Docket No.: B-1271) | Township of Logan (11-03-1840P) | The Honorable Frank J. Meloy, Chairman, Township of Logan Board of Supervisors, 100 Chief Logan Circle, Altoona, PA 16602 | Logan Township Municipal Building, 10 Chief Logan Circle, Altoona, PA 16602 | November 5, 2012 | 421391
Chester (FEMA Docket No.: B-1268) | Borough of West Chester (12-03-0618P) | Mr. Ernest B. McNeeley, Manager, Borough of West Chester, 401 East Gay Street, West Chester, PA 19380 | Borough Hall, Building, Housing, and Code Enforcement Department, 401 East Gay Street, West Chester, PA 19380 | October 12, 2012 | 420292
Chester (FEMA Docket No.: B-1268) | Township of Highland (12-03-1320P) | The Honorable Thomas Scott, Chairman, Township of Highland Board of Supervisors, 100 Five Point Road, Coatesville, PA 19320 | Highland Township Building, Road 3, Gum Tree Road, Coatesville, PA 19320 | October 18, 2012 | 422289
Chester (FEMA Docket No.: B-1268) | Township of Londonderry (12-03-1320P) | The Honorable Richard Brown, Chairman, Township of Londonderry Board of Supervisors, 103 Daleville Road, Cochranville, PA 19330 | Londonderry Township Building, 103 Daleville Road, Cochranville, PA 19330 | October 18, 2012 | 421484
Chester (FEMA Docket No.: B-1268) | Township of West Marlborough (12-03-1320P) | The Honorable William W. Wylie, Chairman, Township of West Marlborough Board of Supervisors, 1300 Doe Run Road, Coatesville, PA 19320 | West Marlborough Township Hall, 1300 Doe Run Road, Coatesville, PA 19320 | October 18, 2012 | 422279
Lebanon (FEMA Docket No.: B-1271) | Township of Jackson (12-03-0843P) | The Honorable Dean O. Moyer, Chairman, Township of Jackson Board of Supervisors, 60 North Ramona Road, Myerstown, PA 17067 | Jackson Township Building, 60 North Ramona Road, Myerstown, PA 17067 | November 26, 2012 | 421805
Montgomery (FEMA Docket No.: B-1271) | Township of Marlborough (12-03-0885P) | The Honorable Joan Smith, Chairman, Township of Marlborough Board of Supervisors, 6040 Upper Ridge Road, Green Lane, PA 18054 | Marlborough Municipal Building, 6040 Upper Ridge Road, Green Lane, PA 18054 | November 9, 2012 | 421913
Texas:
Bexar (FEMA Docket No.: B-1268) | City of San Antonio (11-06-4227P) | The Honorable Julian Castro, Mayor, City of San Antonio, 100 Military Plaza, San Antonio, TX 78205 | Municipal Plaza, 114 West Commerce Street, 7th Floor, San Antonio, TX 78205 | October 11, 2012 | 480045
Bexar (FEMA Docket No.: B-1268) | City of San Antonio (12-06-0221P) | The Honorable Julian Castro, Mayor, City of San Antonio, 100 Military Plaza, San Antonio, TX 78205 | Municipal Plaza, 114 West Commerce Street, 7th Floor, San Antonio, TX 78205 | October 11, 2012 | 480045
Bexar (FEMA Docket No.: B-1268) | City of San Antonio (12-06-0574P) | The Honorable Julian Castro, Mayor, City of San Antonio, 100 Military Plaza, San Antonio, TX 78205 | Municipal Plaza, 114 West Commerce Street, 7th Floor, San Antonio, TX 78205 | October 4, 2012 | 480045
Bexar (FEMA Docket No.: B-1271) | City of San Antonio (12-06-0838P) | The Honorable Julian Castro, Mayor, City of San Antonio, 100 Military Plaza, San Antonio, TX 78205 | Municipal Plaza, 114 West Commerce Street, 7th Floor, San Antonio, TX 78205 | November 16, 2012 | 480045
Bexar (FEMA Docket No.: B-1271) | City of San Antonio (12-06-1638P) | The Honorable Julian Castro, Mayor, City of San Antonio, 100 Military Plaza, San Antonio, TX 78205 | Municipal Plaza, 114 West Commerce Street, 7th Floor, San Antonio, TX 78205 | November 26, 2012 | 480045
Bexar (FEMA Docket No.: B-1262) | Unincorporated areas of Bexar County (12-06-0468P) | The Honorable Nelson W. Wolff, Bexar County Judge, Paul Elizondo Tower, 101 West Nueva Street, 10th Floor, San Antonio, TX 78205 | Bexar County Public Works Department, 233 North Pecos-La Trinidad, Suite 420, San Antonio, TX 78207 | August 23, 2012 | 480035
Bexar (FEMA Docket No.: B-1271) | Unincorporated areas of Bexar County (12-06-0794P) | The Honorable Nelson W. Wolff, Bexar County Judge, Paul Elizondo Tower, 101 West Nueva Street, 10th Floor, San Antonio, TX 78205 | Bexar County Public Works Department, 233 North Pecos-La Trinidad, Suite 420, San Antonio, TX 78207 | November 9, 2012 | 480035
Bexar (FEMA Docket No.: B-1271) | Unincorporated areas of Bexar County (12-06-2182P) | The Honorable Nelson W. Wolff, Bexar County Judge, Paul Elizondo Tower, 101 West Nueva Street, 10th Floor, San Antonio, TX 78205 | Bexar County Public Works Department, 233 North Pecos-La Trinidad, Suite 420, San Antonio, TX 78207 | November 5, 2012 | 480035
Collin (FEMA Docket No.: B-1268) | City of Allen (12-06-0928P) | The Honorable Stephen Terrell, Mayor, City of Allen, 305 Century Parkway, 1st Floor, Allen, TX 75013 | City Hall, Engineering Department, 305 Century Parkway, 1st Floor, Allen, TX 75013 | October 19, 2012 | 480131
Collin (FEMA Docket No.: B-1271) | City of Parker (12-06-0168P) | The Honorable Z. Marshall, Mayor, City of Parker, 5700 East Parker Road, Parker, TX 75002 | 5700 East Parker Road, Parker, TX 75002 | November 9, 2012 | 480139
Collin (FEMA Docket No.: B-1271) | City of Plano (12-06-0168P) | The Honorable Phil Dyer, Mayor, City of Plano, 1520 Avenue K, Plano, TX 75074 | 1520 Avenue K, Suite 250, Plano, TX 75074 | November 9, 2012 | 480140
Collin (FEMA Docket No.: B-1271) | Unincorporated areas of Collin County (12-06-0889P) | The Honorable Keith Self, Collin County Judge, 2300 Bloomdale Road, Suite 4192, McKinney, TX 75071 | Collin County Engineering Department, 825 North McDonald Street, Suite 160, McKinney, TX 75069 | October 26, 2012 | 480130
Dallas (FEMA Docket No.: B-1271) | City of Irving (12-06-0738P) | The Honorable Herbert A. Gears, Mayor, City of Irving, 825 West Irving Boulevard, Irving, TX 75060 | Public Works Department, 825 West Irving Boulevard, Irving, TX 75060 | November 16, 2012 | 480180
Guadalupe (FEMA Docket No.: B-1268) | City of Schertz (12-06-1767P) | Mr. John Kessel, Manager, City of Schertz, 1400 Schertz Parkway, Schertz, TX 78154 | City Hall, 1400 Schertz Parkway, Schertz, TX 78154 | October 18, 2012 | 480269
Johnson (FEMA Docket No.: B-1268) | City of Burleson (11-06-3655P) | The Honorable Ken D. Shetter, Mayor, City of Burleson, 141 West Renfro Street, Burleson, TX 76028 | City Hall, 141 West Renfro Street, Burleson, TX 76028 | September 20, 2012 | 485459
Kendall (FEMA Docket No.: B-1271) | Unincorporated areas of Kendall County (11-06-4333P) | The Honorable Gaylan Schroeder, Kendall County Judge, 201 East San Antonio Street, Suite 120, Boerne, TX 78006 | Kendall County Courthouse, 201 East San Antonio Street, Boerne, TX 78006 | October 29, 2012 | 480417
Lubbock (FEMA Docket No.: B-1271) | City of Lubbock (11-06-4090P) | The Honorable Glen Robertson, Mayor, City of Lubbock, 1625 13th Street, Lubbock, TX 79401 | City Hall, 1625 13th Street, Lubbock, TX 79401 | November 1, 2012 | 480452
Tarrant (FEMA Docket No.: B-1268) | City of Benbrook (11-06-0937P) | The Honorable Jerry B. Dittrich, Ph.D., Mayor, City of Benbrook, 911 Winscott Road, Benbrook, TX 76126 | Department of Community Development, 911 Winscott Road, Benbrook, TX 76126 | October 11, 2012 | 480586
Tarrant (FEMA Docket No.: B-1268) | City of Crowley (11-06-4129P) | The Honorable Billy Davis, Mayor, City of Crowley, 201 East Main Street, Crowley, TX 76036 | City Hall, Community Development Department, 201 East Main Street, Crowley, TX 76036 | October 12, 2012 | 480591
Tarrant (FEMA Docket No.: B-1268) | City of Fort Worth (12-06-0273P) | The Honorable Betsy Price, Mayor, City of Fort Worth, 1000 Throckmorton Street, Fort Worth, TX 76102 | Department of Transportation and Public Works, 1000 Throckmorton Street, Fort Worth, TX 76102 | October 1, 2012 | 480596
Tarrant (FEMA Docket No.: B-1268) | Unincorporated areas of Tarrant County (11-06-4129P) | The Honorable B. Glen Whitley, Tarrant County Judge, 100 East Weatherford Street, Suite 501, Fort Worth, TX 76102 | Administrative Building, Public Works Department, 100 East Weatherford Street, Fort Worth, TX 76102 | October 12, 2012 | 480582
Virginia:
Giles (FEMA Docket No.: B-1262) | Town of Narrows (11-03-1175P) | The Honorable H. Clayton Davis, Mayor, Town of Narrows, P.O. Box 440, Narrows, VA 24124 | Town Hall, 131 Center Street, Narrows, VA 24124 | August 23, 2012 | 510068
Giles (FEMA Docket No.: B-1262) | Unincorporated areas of Giles County (11-03-1175P) | The Honorable Christopher P. McKlarney, Giles County Administrator, 315 North Main Street, Pearisburg, VA 24134 | Giles County Engineering and GIS Departments, 315 North Main Street, Pearisburg, VA 24134 | August 23, 2012 | 510067
Loudoun (FEMA Docket No.: B-1271) | Town of Leesburg (12-03-1300P) | The Honorable Kristen C. Umstattd, Mayor, Town of Leesburg, 25 West Market Street, Leesburg, VA 20176 | Town Hall, 25 West Market Street, Leesburg, VA 20176 | November 8, 2012 | 510091

(Catalog of Federal Domestic Assistance No. 97.022, “Flood Insurance.”)

James A. Walke,
Acting Deputy Associate Administrator for Mitigation, Department of Homeland Security, Federal Emergency Management Agency.

[FR Doc. 2013-03047 Filed 2-8-13; 8:45 am]

BILLING CODE 9110-12-P